FEDERAL DEPOSIT INSURANCE CORPORATION

Statement of Policy for Section 19 of the Federal Deposit Insurance Act

Correction

Editorial Note: This correction was inadvertently removed from the issue of Friday, January 25, 2008. As a result, it is being printed in its entirety.

In notice document E7-25128 appearing on page 73823 in the issue of Friday, December 28, 2007, make the following corrections:

1. In the third column, in the first full paragraph, in the second line, footnote 1 is corrected to read as set forth below:

“¹ Pub.L. 109-351, §710”.

2. In the same column, in the first full paragraph under the heading “A. Scope of Section 19”, the text is corrected to read as set forth below:

Section 19 covers institution-affiliated parties, as defined by 12 U.S.C. 1813(u), and others who are participants in the conduct of the affairs of an insured institution.¹ * * *

¹ This Statement of Policy applies only to insured depository institutions and their institution-affiliated parties. In addition to the requirement to file an application with the FDIC, such individuals may also need to comply with any filing requirements established by the Board of Governors of the Federal Reserve System under 12 U.S.C. § 1829(d), in the case of a bank holding company, or with the Office of Thrift Supervision under 12 U.S.C. § 1829(e), in the case of a savings and loan holding company.

[FR Doc. Z7-25128 Filed 1-28-08; 8:45 am]

BILLING CODE 1505-01-D

DEPARTMENT OF HEALTH AND HUMAN SERVICES

Centers for Medicare & Medicaid Services

42 CFR Parts 422 and 423

[CMS-4133-P]

RIN 0938-AP25

Medicare Program; Option for Prescription Drug Plans To Lower Their Premiums for Low-Income Subsidy Beneficiaries

Correction

In proposed rule document 08-15 beginning on page 1301 in the issue of Tuesday, January 8, 2008, make the following correction:

On page 1302, in the first column, under the DATES heading, in the fourth line “March 10, 2008” should read “March 3, 2008”.

[FR Doc. C8-15 Filed 1-28-08; 8:45 am]

BILLING CODE 1505-01-D

SECURITIES AND EXCHANGE COMMISSION

[Release No. 34-56974; File No. SR-Amex-2007-132]

Self-Regulatory Organizations; American Stock Exchange LLC; Notice of Filing of Proposed Rule Change as Modified by Amendment No. 1 Thereto To Include Volume Executed by Remote Quoting Towards the Earning of Remote Quoting Rights

December 17, 2007.

Correction

In notice document E7-24801 beginning on page 72803 in the issue of Friday, December 21, 2007, make the following correction:

On page 72803, after the subject heading the date should appear as above.

[FR Doc. Z7-24801 Filed 1-28-08; 8:45 am]

BILLING CODE 1505-01-D

SECURITIES AND EXCHANGE COMMISSION

[Release No. 34-57139; File No. SR-NYSE-2008-01]

Self-Regulatory Organizations; New York Stock Exchange LLC; Notice of Filing and Order Granting Accelerated Approval of Proposed Rule Change Relating to NYSE Rule 129 To Reflect the Changes to the NYSE's Gross FOCUS (Financial and Operational Combined Uniform Single Report) Fee That Commenced on January 1, 2008

January 14, 2008.

Correction

In notice document E8-832 beginning on page 3503, in the issue of Friday, January 18, 2008, make the following correction:

On page 3503, in the first column, the document heading should include the date as it appears above.

[FR Doc. Z8-832 Filed 1-28-08; 8:45 am]

BILLING CODE 1505-01-P

SECURITIES AND EXCHANGE COMMISSION

[Release No. 8873; Release No. 56986]

Securities Act of 1933; Securities Exchange Act of 1934; Order Approving Public Company Accounting Oversight Board Budget and Annual Accounting Support Fee for Calendar Year 2008

December 18, 2007.

Correction

In notice document E7-24909 beginning on page 73501 in the issue of Wednesday, December 26, 2007, make the following correction:

On page 73051, after the subject heading the date should appear as above.

[FR Doc. Z7-24909 Filed 1-28-08; 8:45 am]

BILLING CODE 1505-01-D